DEPARTMENT OF COMMERCE

International Trade Administration

[A-580-601]

Top-of-the-Stove Stainless Steel Cooking Ware From Korea: Extension of Time Limit for Final Results of Antidumping Duty Administrative Reviews

AGENCY: Import Administration, International Trade Administration, Department of Commerce

EFFECTIVE DATE: June 27, 2001.

FOR FURTHER INFORMATION CONTACT: Nova Daly or Paige Rivas at (202) 482-0989 or (202) 482-0651, respectively; AD/CVD Enforcement, Office 4, Group II, Import Administration, Room 1870, International Trade Administration, U.S. Department of Commerce, 14th Street and Constitution Avenue, NW, Washington, DC 20230.

Time Limits

Statutory Time Limits

Section 751(a)(3)(A) of the Tariff Act of 1930, as amended (the Act) requires the Department of Commerce (the Department) to make a final determination within 120 days after the date on which the preliminary determination is published. However, if it is not practicable to complete the review within this time period, section 751(a)(3)(A) of the Act allows the Department to extend the time limit for the final results to 180 days (or 300 days if the Department does not extend the time limit for the preliminary results) from the date of publication of the preliminary results.

Background

On February 23, 2001, the Department published in the Federal Register the preliminary results of the 1999 administrative review of the antidumping duty order on top-of-the-stove stainless steel cooking ware from Korea. See Top-of-the-Stove Stainless Steel Cooking Ware from Korea: Preliminary Results and Rescission, in Part, of Antidumping Duty Administrative Review 66 FR 11259 (February 23, 2001).

Extension of Time Limit For Final Determination

We determine that it is not practicable to complete the final results of this review within the original time limit. Therefore, the Department is extending the time limit for completion of the final results until no later than August 24, 2001. See Decision Memorandum from Holly A. Kuga to Bernard T. Carreau, dated concurrently with this notice, which is on file in the Central Records Unit, Room B-099 of the main Commerce building.

This extension is in accordance with section 751(a)(3)(A) of the Act.

Dated: June 19, 2001.
Bernard T. Carreau,
Deputy Assistant Secretary, Group II for Import Administration.

[FR Doc. 01-16167 Filed 6-26-01; 8:45 am]

BILLING CODE 3510-DS-P